DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the name of a person who has been removed from the list of Specially Designated Nationals and Blocked Persons (SDN List). Their property and interests in property are no longer blocked, and U.S. persons are no longer generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List (SDN List) and additional information concerning OFAC sanctions programs are available on OFAC's website (https://www.treasury.gov/ofac).

Notice of OFAC Actions

OFAC previously determined on December 9, 2019 that the entity listed below met one or more of the criteria under Executive Order 13818 of December 20, 2017, “Blocking the Property of Persons Involved in Serious Human Rights Abuse or Corruption,” 82 FR 608329, 3 CFR, 2017 Comp., p. 399 (E.O. 13818).

On December 18, 2019, the Director of OFAC determined that circumstances no longer warrant the inclusion of the following entity on the SDN List under this authority. This entity is no longer subject to the blocking provisions of Section 1(a) of E.O. 13818.

Entity

1. VENTSPILS FREEPORT AUTHORITY (a.k.a. FREEPORT OF VENTSPILS; a.k.a. FREEPORT OF VENTSPILS AUTHORITY; a.k.a. VENTSPILS FREE PORT; a.k.a. VENTSPILS FREEPORT), Jana 19, Ventspils LV-3601, Latvia [GLOMAG] (Linked To: LEMBERGS, Aivars).

Dated: December 18, 2019.
Andrea Gacki,
Director, Office of Foreign Assets Control.

[FR Doc. 2019-27668 Filed 12-20-19; 8:45 am]

BILLING CODE 4810-AL-P